DEPARTMENT OF THE INTERIOR

Minerals Management Service

Alaska Region, Outer Continental Shelf, Beaufort Sea Planning Area, Oil and Gas Lease Sale 202 (2007)

AGENCY: Minerals Management Service (MMS), Interior.

ACTION: Notice of availability of an Environmental Assessment (EA) and Finding of No New Significant Impact (FONNSI).

SUMMARY: The Minerals Management Service has prepared an environmental assessment and a Finding of No New Significant Impact for the proposed Alaska Region Outer Continental Shelf (OCS) Beaufort Sea Planning Area Lease Sale 202. In this EA, OCS EIS/EA MMS 2006-001, MMS reexamined the potential environmental effects of the proposed action and its alternatives based on any new information regarding potential impacts and issues that were not available at the time the Alaska Region OCS Beaufort Sea Planning Area Oil and Gas Lease Sales 186, 195, and 202, Final Environmental Impact Statement, Volumes I through IV (multiple-sale EIS) was completed in February 2003.

FOR FURTHER INFORMATION CONTACT: Minerals Management Service, Alaska OCS Region, 3801 Centerpoint Drive, #500, Anchorage, Alaska 99503-5823, Ms. Deborah Cranswick, telephone (907) 334-5267.

SUPPLEMENTARY INFORMATION: Proposed Beaufort Sea Planning Area Lease Sale 202 is the third Beaufort Sea Planning Area lease sale scheduled in the current OCS Oil and Gas Leasing Program: 2002-2007 (5-Year Program). The multiple-sale EIS analyzed the effects of three lease sales considering resource estimates, project exploration and development activities, and impact-producing factors for each of the proposed Beaufort Sea Planning Area lease sales. The resource estimates and level of activities projected for proposed Lease Sale 202 remains essentially the same as examined in the multiple-sale EIS. No new significant impacts were identified for proposed Lease Sale 202 that were not already assessed in the multiple-sale EIS. The FONNSI reflects the MMS determination that a supplemental EIS is not required. Available for Review: To obtain a copy of the EA and FONSI, you may contact the Minerals Management Service, Alaska OCS Region, Attention: Resource Center, 3801 Centerpoint Drive, #500, Anchorage, Alaska 99503-5823, telephone 1-800-764-2627. You may also view the EA on the MMS Web site at http://www.mms.gov/alaska.

Written Comments: Interested parties may submit their written comments on this EA/FONNSI until 30 days after the publication of this notice, to the Regional Director, Alaska OCS Region, Attention: Sale 202 EA Coordinator, Minerals Management Service, 3801 Centerpoint Drive, #500, Anchorage, Alaska 99503-5823, or you may provide electronic comments at http://ocsconnect.mms.gov/pcs-public/. Our practice is to make comments, including names and home addresses of respondents available for public review. An individual commenter may ask that we withhold their name, home address, or both from the public record, and we will honor such a request to the extent allowable by law. If you submit comments and wish us to withhold such information, you must state so prominently at the beginning of your submission. We will not consider anonymous comments, and we will make available for inspection in their entirety all comments submitted by organizations or businesses or by individuals identifying themselves as representatives of organizations or businesses.

Dated: August 22, 2006.
Robert P. LaBelle,
Acting Associate Director for Offshore Minerals Management.

[FR Doc. E6-14745 Filed 9-5-06; 8:45 am]

BILLING CODE 4310-MR-P